DEPARTMENT OF HOMELAND SECURITY

Coast Guard

[USCG-2007-28578]

Collection of Information Under Review by Office of Management and Budget; OMB Control Number: 1625-0089

AGENCY: Coast Guard, DHS.

ACTION: Request for comments.

SUMMARY: In compliance with the Paperwork Reduction Act of 1995, the U.S. Coast Guard intends to submit an Information Collection Request (ICR) to the Office of Management and Budget (OMB) requesting re-instatement, with change, of a previously-approved collection of information: 1625-0089, National Recreational Boating Survey. Before submitting this ICR to OMB, the Coast Guard is inviting comments as described below.

DATES: Comments must reach the Coast Guard on or before September 14, 2007.

ADDRESSES: To make sure your comments and related material do not enter the docket [USCG-2007-28578] more than once, please submit them by only one of the following means:

(1) By mail to the Docket Management Facility (M-30), U.S. Department of Transportation (DOT), West Building Ground Floor, Room W12-140, 1200 New Jersey Avenue, SE., Washington, DC 20590.

(2) By delivery to room W12-140 at the address given in paragraph (1)(a) above, between 9 a.m. and 5 p.m., Monday through Friday, except Federal holidays. The telephone number is (202) 366-9329.

(3) By fax to the Facility at (202) 493-2298.

(4) Electronically through the Web site for the Docket Management System (DMS) at: http://dms.dot.gov.

The Docket Management Facility maintains the public docket for this notice. Comments and material received from the public, as well as documents mentioned in this notice as being available in the docket, will become part of this docket and will be available for inspection or copying at room W12-140 on the West Building Ground Floor level, 1200 New Jersey Avenue, SE., Washington, DC, between 9 a.m. and 5 p.m., Monday through Friday, except Federal holidays. You may also find this docket on the Internet at: http://dms.dot.gov.

Copies of the complete ICR are available through this docket on the Internet at: http://dms.dot.gov, and also from Commandant (CG-611), U.S. Coast Guard Headquarters, room 10-1236 (Attn: Mr. Arthur Requina), 2100 2nd Street, SW., Washington, DC 20593-0001. The telephone number is 202-475-3523.

FOR FURTHER INFORMATION CONTACT: Mr. Arthur Requina, Office of Information Management, telephone 202-475-3523, or fax 202-475-3929, for questions on these documents; or telephone Ms. Renee V. Wright, Program Manager, Docket Operations, 202-366-9826, for questions on the docket.

SUPPLEMENTARY INFORMATION:

Public Participation and Request for Comments

We encourage you to respond to this request by submitting comments and related materials. We will post all comments received, without change, to http://dms.dot.gov; they will include any personal information you provided. We have an agreement with DOT to use the Docket Management Facility. Please see the paragraph on DOT's “Privacy Act Policy” below.

Submitting comments: If you submit a comment, please include your name and address, identify the docket number [USCG-2007-28578], indicate the specific section of the document to which each comment applies, providing a reason for each comment. You may submit your comments and material by electronic means, mail, fax, or delivery to the Docket Management Facility at the address under ADDRESSES; but please submit them by only one means. If you submit them by mail or delivery, submit them in an unbound format, no larger than 8½ by 11 inches, suitable for copying and electronic filing. If you submit them by mail and would like to know that they reached the Facility, please enclose a stamped, self-addressed postcard or envelope. We will consider all comments and material received during the comment period. We may change the documents supporting this collection of information or even the underlying requirements in view of them.

Viewing comments and documents: Go to http://dms.dot.gov to view comments and documents mentioned in this notice as being available in the docket. Conduct a simple search using the docket number. You may also visit the Docket Management Facility in room W12-140 on the West Building Ground Floor, 1200 New Jersey Avenue, SE., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000, (65 FR 19477), or you may visit http://dms.dot.gov.

Information Collection Request

Title: National Recreational Boating Survey.

OMB Control Number: 1625-0089.

Summary: The Coast Guard National Recreational Boating Survey collects data on recreational boating participation and exposure to hazards. The goal is for the Office of Boating Safety to draw a general statistical profile of the U.S. recreational boating population. Of particular importance will be statistics on the type of boats used, the activities these boats are used for, boat operators' knowledge of safety measures, and the duration of a typical boating day (referred to as “exposure”). Exposure data will be used to derive a reliable measure of the risk associated with recreational boating that can be used in all jurisdictions.

Need: The Federal Boat Safety Act of 1971 determines the framework of the Coast Guard recreational boating safety program. This program as set forth in 46 U.S.C., Chapter 131, requires the Coast Guard to “encourage greater State participation and uniformity in boating safety efforts, and particularly to permit the States to assume a greater share of boating safety education, assistance, and enforcement activities.” See 46 U.S.C. 13102. The Coast Guard Office of Boating Safety achieves these goals by providing timely and relevant information on boating activities that occur in each respective jurisdiction. The boating information provided by the Coast Guard enables each State agency to tailor and implement safety initiatives addressing specific needs of boaters in local jurisdictions. The primary objective of this collection is to provide the Coast Guard with the required information in a format suitable to effectively manage the program.

Respondents: Recreational boating participants and owners of recreational vessels.

Frequency: Every 2 years.

Burden Estimate: This is a bi-ennial requirement. In the year the survey is conducted, the burden is estimated to be 67,619 hours.

Dated: July 3, 2007.
D.T. Glenn,
Rear Admiral, U.S. Coast Guard, Assistant Commandant for Command, Control, Communications, Computers and Information Technology.

[FR Doc. E7-13731 Filed 7-13-07; 8:45 am]

BILLING CODE 4910-15-P